DEPARTMENT OF TRANSPORTATION

Maritime Administration

[Docket No. DOT MARAD 2017-0010]

Agency Requests for Renewal of a Previously Approved Information Collection(s): Application for Conveyance of Port Facility Property

AGENCY: Maritime Administration, Department of Transportation.

ACTION: Notice and request for comments.

SUMMARY: The Department of Transportation (DOT) invites public comments about our intention to request the Office of Management and Budget (OMB) approval to renew an information collection. The information collection is necessary for MARAD to determine whether the applicant is committed to the redevelopment plan; the plan is in the best interests of the public, and the property will be used in accordance with the terms of the conveyance and applicable statutes and regulations. We are required to publish this notice in the Federal Register by the Paperwork Reduction Act of 1995.

DATES: Written comments should be submitted by March 20, 2017.

ADDRESSES: You may submit comments [identified by Docket No. DOT-MARAD-2017-0010 through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Linden Houston, Office of Deepwater Ports and Offshore Activities, Maritime Administration, 1200 New Jersey Avenue SE., Washington, DC 20590; Telephone: (202) 366-4839 or Email: Linden.Houston@dot.gov. Copies of this collection can also be obtained from that office.

SUPPLEMENTARY INFORMATION: OMB Control Number: 2133-0524.

Title: Application for Conveyance of Port Facility Property.

Form Numbers: MA-1047.

Type of Review: Renewal of a currently approved information collection.

Background: Public Law 103-160, which is included in 40 U.S.C. 554 authorizes the Department of Transportation to convey to public entities surplus Federal property needed for the development or operation of a port facility. The information collection will allow MARAD to approve the conveyance of property and administer the port facility conveyance program.

Respondents: Eligible state and local public entities.

Number of Respondents: 13.

Frequency: Annually.

Total Annual Burden: 572.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: The Paperwork Reduction Act of 1995; 44 U.S.C. Chapter 35, as amended; and 49 CFR 1.93

Dated: January 10, 2017.
T. Mitchell Hudson, Jr.,
Secretary, Maritime Administration.

[FR Doc. 2017-01084 Filed 1-18-17; 8:45 am]

BILLING CODE 4910-81-P